DEPARTMENT OF HOMELAND SECURITY

Coast Guard

33 CFR Parts 101 and 104

[USCG-2004-17086]

Continuous Synopsis Record (CSR)

AGENCY: Coast Guard, DHS.

ACTION: Notice of availability; Application for Continuous Synopsis Record (CG-6039); and request for public comments.

SUMMARY: The Coast Guard announces the availability of the “Application for Continuous Synopsis Record” (Application for CSR) form CG-6039. Certain vessels are required to carry onboard a Continuous Synopsis Record (CSR) by the International Convention for the Safety of Life at Sea, 1974 (SOLAS) Chapter XI-1. This document details the process of obtaining and amending the CSR. The Coast Guard also solicits public comments on the collection of information associated with the CSR.

DATES: Comments. Comments and related material must reach the Docket Management Facility on or before April 27, 2004. Comments sent to the Office of Management and Budget (OMB) on collections of information must reach OMB on or before April 27, 2004.

Availability. The Application for CSR form CG-6039 will be available at the locations listed in the ADDRESSES section below beginning February 25, 2004. The Coast Guard will begin issuing the “Continuous Synopsis Record” (CSR) form CG-6038 on March 1, 2004. All applicable U.S. flag vessels shall have a Coast Guard issued CSR onboard and available for inspection no later than July 1, 2004.

ADDRESSES: Comments. To make sure that your comments and related material are not entered more than once in the docket, please submit them by only one of the following means:

(1) Electronically through the web site for the Docket Management System at http://dms.dot.gov.

(2) By mail to the Docket Management Facility, (USCG-2004-17086), U.S. Department of Transportation, room PL-401, 400 Seventh Street SW., Washington, DC 20590-0001.

(3) By fax to the Docket Management Facility at (202) 493-2251.

(4) By delivery to room PL-401 on the Plaza level of the Nassif Building, 400 Seventh Street SW., Washington, DC, between 9 a.m. and 5 p.m., Monday through Friday, except Federal holidays. The telephone number is (202) 366-9329.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

You must also mail comments on collection of information to the Office of Information and Regulatory Affairs, Office of Management and Budget, 725 17th Street NW., Washington, DC 20503, ATTN: Desk Officer, U.S. Coast Guard.

Availability. The Application for CSR form CG-6039, and the “Amendments to the CSR and Index of Amendments to the CSR” (Amendments and Index to CSR) form CG-6038A, may be obtained by any of the following methods:

(1) By downloading it from the Coast Guard Port Security Directorate Web site at http://www.uscg.mil/hq/g-m/mp/rules.shtml.

(2) By requesting it, via mail, from the Continuous Synopsis Record Desk (CSR Desk) at P.O. Box 1750, Falling Waters, WV 25419-1750.

(3) By calling the CSR Desk toll free number: 1-866-603-5476.

(4) By requesting it, via e-mail, to csrdesk@nvdc.uscg.mil.

Completed forms. A completed Application for CSR form CG-6039 or a completed Amendment and Index to CSR form CG-6038A may be submitted via e-mail to csrdesk@nvdc.uscg.mil or mailed to the CSR Desk, P.O. Box 1750, Falling Waters, WV 25419-1750.

FOR FURTHER INFORMATION CONTACT: If you have any questions regarding this notice or the CSR contact Lieutenant Commander Kirsten R. Martin, telephone (202) 267-0503, e-mail kmartin@comdt.uscg.mil or Chief Warrant Officer Jim Upthegrove, telephone (202) 267-0102, e-mail jupthegrove@comdt.uscg.mil, U.S. Coast Guard Office of Compliance (G-MOC-1). If you have questions on viewing or submitting material to the docket, call Andrea M. Jenkins, Program Manager, Docket Operations, telephone (202) 366-0271.

SUPPLEMENTARY INFORMATION:

Request for Comments

We encourage you to submit comments and related material on the collection of information updates included in this notice. If you do so, please include your name and address, identify the docket number for this notice (USCG-2004-17086) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Viewing comments and documents. To view comments go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act. Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background

Definitions. For the purposes of this notice and this program:

Administration means the government of the State whose flag the ship is authorized to fly.

Cargo vessel means a vessel propelled by mechanical means, that is not a passenger vessel, and of 500 gross tons and over. This excludes ships of war, troopships, wooden ships of primitive build, pleasure yachts not engaged in trade, and fishing vessels.

Contracting Government means a Nation-State that has become a party to the International Convention for the Safety of Life at Sea, 1974 (SOLAS), including Chapter XI as amended.

Gross Tons means gross tonnage as measured by the Tonnage Convention of 1969.

International voyage means a voyage between a country to which SOLAS applies and a port outside such country. This excludes vessels solely navigating the Great Lakes and the St. Lawrence River as far east as a straight line drawn from Cap des Rosiers to West Point, Anticosti Island and, on the north side of Anticosti Island, the 63rd meridian.

Passenger vessel means a vessel which carries more than 12 passengers.

About the CSR

SOLAS Chapter XI-1 (adopted by the U.S. as part of the International Ship and Port Facility Security (ISPS) Code) and 33 CFR §§ 101.115(b) and 104.297(a) require that all U.S. flag cargo vessels of 500 gross tons and over on international voyages and all U.S. flag passenger vessels carrying 12 or more passengers on international voyages must be issued and carry onboard a CSR during operations on and after July 1, 2004. Specifically, 33 CFR § 101.115(b) incorporates by reference SOLAS Chapter XI-1, as amended, and 33 CFR § 104.297(a) requires vessels on international voyages to comply with SOLAS Chapter XI-1, if applicable. Regulation 5 of SOLAS Chapter XI-1 prescribes the requirements of the CSR.

The CSR provides an onboard record of the history of the vessel with respect to its flag, owner, operator, charterer, classification society, safety management and security activities.

Key elements of Regulation 5 include the following:

—The CSR must be onboard the vessel and available for inspection at all times.

—Vessel masters, owners or operators are required to submit updated information to the vessel's flag state to amend the CSR when changes occur.

—Flag states are required to forward the administration's records of a vessel's CSR to the new flag state when a vessel changes flag.

In U.S. waters, vessels not in compliance with SOLAS Chapter XI-1, Regulation 5, are subject to operational control and compliance measures, as well as the civil penalties described in 33 CFR §§ 101.400, 101.410, and 101.415. U.S. vessels operating in foreign waters can be detained by a port state for not meeting the SOLAS requirement to carry a valid CSR onboard on or after July 1, 2004, in accordance with the port state control measures allowed by SOLAS.

The Coast Guard will administer the CSR program for the U.S. and will open a new CSR Desk at its National Vessel Documentation Center in Falling Waters, West Virginia, on February 25, 2004. Hours of operation will be Monday through Friday, 7:30 a.m. to 5 p.m. Eastern Time, except for Federal holidays. The toll free phone number for the CSR Desk is 1-866-603-5476. The forms needed to apply for a CSR will be available on February 25, 2004, and may be obtained from the Coast Guard from any of the means identified under ADDRESSES. The Coast Guard will be able to issue CSRs on March 1, 2004.

Copies of the Amendments and Index to CSR form CG-6038A, the Application for CSR form CG-6039, can be found as appendices at the end of this document. They may also be found in the docket for this notice (USCG-2004-17086) and at the Coast Guard's Port Security Directorate web site found under ADDRESSES.

Detailed guidance on the CSR program will be published in a future policy notice by the Coast Guard and will receive the widest possible distribution to affected parties, including publication in the Federal Register.

Who Must Apply for a CSR

All U.S. flag cargo vessels of 500 gross tons and over on international voyages and all U.S. flag passenger vessels carrying 12 or more passengers on international voyages.

How To Apply for a CSR

1. Obtain an Application for CSR form CG-6039. You may obtain an Application for CSR form CG-6039 from the Coast Guard by one of the means specified under ADDRESSES.

2. Submit completed application. You may submit a completed application to the CSR Desk by one of the means specified under ADDRESSES.

3. Once application data is reviewed and validated, the Coast Guard will mail a valid CSR form CG-6038 accompanied by a blank Amendments and Index to CSR form CG-6038A, to the applicant for placement on his or her vessel. Valid CSR documents will not be sent by email.

How To Amend a CSR

The vessel owner or operator is responsible for maintaining the CSR form CG-6038 onboard their vessel. SOLAS Chapter XI-1, Regulation 5 requires that the vessel owner or operator, without delay, amend the CSR whenever a change occurs to any of the vessel's data elements outlined in paragraphs 3.4 thru 3.12. The Coast Guard considers the vessel master to be the authorized representative of the owner or operator for the purposes of updating and maintaining the CSR. To amend the CSR:

1. Complete the Amendments and Index to CSR form CG-6038A. The Coast Guard will include a blank Amendments and Index to CSR form CG-6038A with a valid CSR. Also, you may obtain the Amendments and Index to CSR form CG-6038A from the Coast Guard by one of the means specified under ADDRESSES.

2. Attach original completed Amendments and Index to CSR form CG-6038A to the current CSR being carried onboard the vessel.

3. Send a copy of the Amendments and Index to CSR form CG-6038A, without delay, to the Coast Guard CSR Desk at one of its addresses listed under ADDRESSES.

4. Once amendment data is received and validated, the Coast Guard will issue a revised updated CSR form CG-6038 accompanied by a blank Amendments and Index to CSR form CG-6038A. Valid CSR documents will not be sent by email. Do not destroy old CSRs; they must be maintained onboard the vessel.

Maintenance of the CSR

The CSR provides an onboard record of the history of the ship comprised of the chronological file of all copies of the CSR form CG-6038 issued and all completed Amendments and Index to CSR form CG-6038A. Owners and operators are required by SOLAS Chapter XI-1, Regulation 5 to retain this complete historic record onboard the vessel permanently, and to ensure that it is available for inspection at all times.

Collection of Information

This notice contains a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

The notice modifies two existing OMB-approved collections—1625-0002 [formerly 2115-0007] and 1625-0017 [formerly 2115-0056]. Summaries of the revised collections follow.

OMB Control Number: 1625-0002 [formerly 2115-0007].

Title: Application for Vessel Inspection and Waiver.

Summary of the Collection of Information: The collection of information requires the owner, operator, agent, or master of a vessel to apply in writing to the Coast Guard before the commencement of the inspection for certification, when a waiver is desired from the requirements of navigation and vessel inspection, or to request a Continuous Synopsis Record.

Need for Information: As required in SOLAS Chapter XI-1 and 33 CFR §§ 101.115(b) and 104.297(a), U.S. flag vessels subject to SOLAS must carry onboard a Continuous Synopsis Record (CSR). The Application for CSR form CG-6039 is needed for processing and creating a CSR for each vessel.

Proposed Use of Information: The information contained in the Application for CSR form CG-6039 will be used to review and validate the status of the vessel being described in the form.

Description of the Respondents: Vessel owners or operators whose vessels are subject to SOLAS Chapter XI-1; U.S. flag cargo vessels of 500 gross tons and over, and U.S. flag passenger vessels carrying 12 or more passengers on international voyages.

Number of Respondents: We estimate that 603 vessels currently have SOLAS certificates and all need to apply in 2004 for CSRs.

Frequency of Response: Whenever a vessel becomes subject to SOLAS, once to obtain the vessel's first CSR.

Burden of Response: 30 minutes (.5 hours) per application.

Estimate of Total Annual Burden: The burden attributed to completing and submitting form CG-6039 in 2004 is 302 hours. The estimated total annual burden for OMB 1625-0002 is adjusted to be 1,280 hours.

OMB Control Number: 1625-0017 [formerly 2115-0056].

Title: Various International Agreement Safety Certificates and Documents.

Summary of the Collection of Information: Required by the adoption of the International Convention for the Safety of Life at Sea, 1974. The 13 forms are evidence of compliance with this convention for U.S. vessels on international voyages. Without the proper certificates or documents, a U.S. vessel could be detained in foreign ports.

Need for Information: As required in SOLAS Chapter XI-1 and 33 CFR §§ 101.115(b) and 104.297(a), U.S. flag vessels subject to SOLAS must carry onboard a CSR form CG-6038. SOLAS Chapter XI-1, Regulation 5 requires that the vessel owner or operator, without delay, amend the CSR whenever a change occurs to any of the vessel's data elements outlined in paragraphs 3.4 thru 3.12 and submit an Amendments and Index to CSR form CG-6038A to the Coast Guard.

Proposed Use of Information: The CSR form CG-6038 provides an onboard record of the history of the vessel needed. The information contained in the Amendments and Index to CSR form CG-6038A will be used to update the validity of the vessel being described in the form.

Description of the Respondents: Vessel owners or operators whose vessels are subject to SOLAS Chapter XI-1; U.S. flag cargo vessels of 500 gross tons and over, and U.S. flag passenger vessels carrying 12 or more passengers on international voyages.

Number of Respondents: We estimate that 603 vessels currently have SOLAS certificates and all need to carry onboard a CSR form CG-6038. Assuming that 10 percent of these amend their CSRs, we estimate that 60 vessels will submit the Amendments and Index to CSR form CG-6038A in 2004.

Frequency of Response: Carrying onboard the vessel a CSR form CG-6038 is an annual burden. Submitting the Amendments and Index to CSR form CG-6038A occurs when there are any changes to the vessel's data elements listed in SOLAS Chapter XI-1, Regulation 5, paragraphs 3.4 thru 3.12.

Burden of Response: 5 minutes (.083 hours) per CSR form CG-6038 and 30 minutes (.5 hours) per Amendments and Index to CSR form CG-6038A.

Estimate of Total Annual Burden: The burden attributed to maintaining form CG-6038 in 2004 is 50 hours. The burden of completing and submitting form CG-6038A in 2004 is 30 hours. The estimated total annual burden for OMB 1625-0017 is adjusted to be 96 hours.

As required by the Paperwork Reduction Act of 1995 (44 U.S.C. 3507(d)), we submitted a copy of this notice to the Office of Management and Budget (OMB) for its review of the collections of information. Due to the circumstances surrounding this notice, we asked for “emergency processing” of our request. Before the changes these collections of information become effective, we will publish notice in the Federal Register of OMB's decision to approve, modify, or disapprove the collections.

We ask for public comment on the collections of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB.

Dated: February 18, 2004.
Joseph J. Angelo,
Director of Standards, Marine Safety, Security & Environmental Protection.

BILLING CODE 4910-15-P

Appendix A—Application for Continuous Synopsis Record

Appendix B—Amendments to the CSR and Index of Amendments to the CSR

[FR Doc. 04-4210 Filed 2-26-04; 8:45 am]

BILLING CODE 4910-15-C